DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2002 Survey of Business Owners and Self-Employed Persons (SBO).

Form Number(s): SBO-1, SBO-2.

Agency Approval Number: None.

Type of Request: New collection.

Burden: 416,666 hours.

Number of Respondents: 2,500,000.

Avg Hours Per Response: 10 minutes.

Needs and Uses: The 2002 Survey of Business Owners and Self-Employed Persons (SBO) will provide the only comprehensive, regularly collected source of information on selected economic and demographic characteristics for businesses and business owners by gender, ethnicity, and race. It is conducted as part of the economic census program. This survey was previously known as the Survey of Minority-Owned Business Enterprises (SMOBE) and the Survey of Women-Owned Business Enterprises (SWOBE).

For the 2002 SBO, significant changes have been made to the questionnaire. These changes include the following:

• The questions about race and ethnicity have been modified to meet the OMB guidelines to allow respondents the opportunity to select more than one race. Also, per the OMB guidelines, the Hispanic origin question is placed before the race question.

• The survey adopts person-level reporting for a variety of characteristics for up to three individual owners, because background research suggested difficulty with aggregate reporting of race and ethnicity combinations for multiple owners.

• Several new questions have been borrowed from the former Characteristics of Business Owners survey, which has not been funded for the upcoming economic census. These items will fill the void for many data users.

• A new question has also been added to increase our understanding of the businesses' use of alternative employment arrangements.

These data are needed to evaluate the extent and growth of business ownership by minorities and women in order to provide a framework for assessing and directing Federal, state, and local government programs designed to promote the activities of disadvantaged groups. The Small Business Administration and the Minority Business Development Agency use the SBO data when allocating resources for their business assistance programs. The data are also widely used by private firms and individuals to evaluate their own businesses and markets, by the media for news stories, by researchers and academia for determining firm characteristics, and by the legal profession in evaluating the concentration of minority businesses in particular industries and/or geographic areas.

Affected Public: Businesses or other for-profit.

Frequency: Every five years.

Respondent's Obligation: Mandatory.

Legal Authority: Title 13 U.S.C., Sections 131, 193, & 224.

OMB Desk Officer: Susan Schechter, (202) 395-5103.

Copies of the above information collection proposal can be obtained by calling or writing Diana Hynek, Departmental Paperwork Clearance Officer, (202) 482-3129, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: October 21, 2002.
Madeleine Clayton,
Management Analyst, Office of the Chief Information Officer.

[FR Doc. 02-27215 Filed 10-24-02; 8:45 am]

BILLING CODE 3510-07-P